DEPARTMENT OF ENERGY

Environmental Management Site-Specific Advisory Board, Northern NM

AGENCY: Department of Energy.

ACTION: Notice of open meeting.

SUMMARY: This notice announces a meeting of the Environmental Management Site-Specific Advisory Board (EM SSAB), Northern New Mexico. The Federal Advisory Committee Act (Pub. L. No. 92-463, 86 Stat. 770) requires that public notice of this meeting be announced in the Federal Register.

DATES: Wednesday, September 24, 2008, 2 p.m.-8 p.m.

ADDRESSES: Jemez Complex,Santa Fe Community College,6401 Richards Avenue,Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda

2 p.m.

Call to Order by Deputy Designated Federal Officer (DDFO), Christina Houston

Establishment of a Quorum, Lorelei Novak

Welcome, J.D. Campbell

Approval of Agenda, Ed Moreno

Approval of July 30, 2008 Board Meeting Minutes, Ed Moreno

2:15 p.m.

Old Business, Ed Moreno

A. Written Reports

B. Consideration and Action on Proposed Amendments to NNMCAB Bylaws

C. Other Matters

2:30 p.m.

New Business, Ed Moreno

A. Election of Officers for Fiscal Year (FY) 2009

B. Matters from the Board Members

3 p.m.

Consideration and Action on Recommendations to DOE

A. Recommendation 2008-04

B. Other Draft Recommendations

4:10 p.m. Break

4:30 p.m. Presentation by DOE and Los Alamos National Security on Implementation of NNMCAB Recommendations

5:30 p.m. Public Comment Period

5:45 p.m. Dinner Break

6:45 p.m. Consideration and Action on FY 2009 Committee Work Plans, Ed Moreno

7:45 p.m. Matters from Board Members, Ed Moreno

8 p.m. Adjourn, Christina Houston

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org/minutes/board-minutes.htm.

Issued at Washington, DC, on August 22, 2008.
Rachel Samuel,
Deputy Committee Management Officer.

[FR Doc. E8-19974 Filed 8-27-08; 8:45 am]

BILLING CODE 6405-01-P